FEDERAL COMMUNICATIONS COMMISSION

Information Collection Being Submitted to the Office of Management and Budget for Emergency Review and Approval

AGENCY: Federal Communications Commission.

ACTION: Notice and request for comments.

SUMMARY: The Federal Communications Commission, as part of its continuing effort to reduce paperwork burden, invites the general public and other Federal agencies to take this opportunity to comment on the following information collection(s), as required by the Paperwork Reduction Act (PRA) of 1995. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden on small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before June 13, 2011. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via e-mail to PRA@fcc.gov and Paul.Laurenzano@fcc.gov.

FOR FURTHER INFORMATION CONTACT: For additional information, contact Paul Laurenzano on (202) 418-1359.

SUPPLEMENTARY INFORMATION: The Commission is requesting emergency OMB processing of the information collection requirement(s) contained in this notice and has requested OMB approval 30 days after the collection is received at OMB.

To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION: OMB Control Number: 3060-XXXX.

Title: Sections 1.1420; 1.1422; and 1.1424 Pole Attachment Access Requirements.

Form Number: N/A.

Type of Review: New Collection.

Respondents: Business or other for-profit.

Number of Respondents and Responses: 1,278 respondents; 54,932 responses.

Estimated Time per Response: 1-600 hours.

Frequency of Response: Occasional third party disclosure, recordkeeping, and reporting.

Obligation to Respond: Mandatory. Statutory authority for this information collection is contained 47 U.S.C. section 224.

Total Annual Burden: 683,169 hours.

Total Annual Cost: No cost.

Nature and Extent of Confidentiality: No confidentiality regarding recordkeeping or reporting. No known confidentiality between third parties.

Privacy Impact Assessment: No impact(s).

Needs and Uses: The new rules are needed to implement the statutory mandate that communications companies (attachers) should be able to place facilities on utility poles. The new rules set a series of deadlines or “timeline” to govern the process by which permission is sought by attachers and granted by utility pole owners. In practice, attachers must submit detailed applications that cause the utility to survey and perform an engineering analysis on the poles where access is requested.

The post-survey pole preparation work (make-ready) triggers further paperwork burdens. These include the pole owner notifying all known entities with existing attachments and the requesting attacher of the scheduled work. Other notification occurs if the make-ready period is interrupted, and if a pole owner asserts its right to one 15-day extension of time. Pole owners both perform make ready and coordinate with existing attachers over many weeks.

Also, the Order adopts rules intended to make the timeline deadlines largely self-enforcing. Utilities are required to post a list of approved contractors. If a deadline is not met, new attachers may hire a listed, utility-approved contractor to perform pole attachment surveys or preparation in lieu of the utility using its own workers. If an attacher uses a utility-approved contractor, it must notify the utility, and invite the utility to send a representative to oversee the work. This self-enforcing mechanism removes some of the burden from the complaint process, which is often too slow to provide meaningful relief when pole access is denied or unreasonably delayed.

Finally, the Order also broadens the existing enforcement process by permitting incumbent local exchange carriers (LECs) to file complaints alleging that the attachment rates demanded by electric utilities are unreasonable. The Order also encourages incumbent LECs that benefit from lower pole attachment costs to file data at the Commission that demonstrate that the benefits are being passed on to consumers.

Federal Communications Commission.
Gloria J. Miles,
Federal Register Liaison, Office of the Secretary, Office of Managing Director.

[FR Doc. 2011-13119 Filed 5-26-11; 8:45 am]

BILLING CODE 6712-01-P